ENVIRONMENTAL PROTECTION AGENCY

40 CFR Part 52

[IL214-1a; FRL-7164-4]

Approval and Promulgation of Implementation Plans; Illinois Emission Reporting

AGENCY: Environmental Protection Agency (EPA).

ACTION: Direct final rule.

SUMMARY: EPA is approving revisions to Illinois rules for emission reporting. Illinois requested these revisions on November 6, 2001. The revisions address two purposes. First, these revisions restructure previously approved regulations, eliminating a category with intermediate reporting requirements and thus requiring further reporting by a modest number of sources. Second, these revisions add requirements for reporting emissions of hazardous air pollutants by sources in the Chicago area volatile organic compound emissions trading program. This information on hazardous air pollutant emissions will help Illinois assess whether its emission trading program has adverse effects on the magnitude and distribution of hazardous air pollutant emissions. EPA concludes that the revised regulations continue to satisfy emissions reporting requirements and provide for reporting of emissions information needed to assess the impact of the emissions trading program on the distribution and overall magnitude of hazardous air pollutant emissions.

DATES: This rule is effective on July 15, 2002, unless EPA receives written adverse comments by June 14, 2002. If the effective date is delayed, timely notice will be published in the Federal Register.

ADDRESSES: Send comments to: J. Elmer Bortzer, Chief, Regulation Development Section, Air Programs Branch (AR-18J), United States Environmental Protection Agency, 77 West Jackson Boulevard, Chicago, Illinois 60604. Copies of the State's submittal are available for inspection at the following address: (We recommend that you telephone John Summerhays at (312) 886-6067, before visiting the Region 5 Office.) U.S. Environmental Protection Agency, Region 5, Air and Radiation Division (AR-18J), 77 West Jackson Boulevard, Chicago, Illinois 60604.

FOR FURTHER INFORMATION CONTACT: John Summerhays, Environmental Scientist, Regulation Development Section, Air Programs Branch (AR-18J), U.S. Environmental Protection Agency, Region 5, Chicago, Illinois 60604-3590, (312) 886-6067.

SUPPLEMENTARY INFORMATION: This document is organized according to the following table of contents:

I. What changes did Illinois make?

II. What is EPA's view of these changes?

III. EPA Action.

IV. Administrative Requirements.

I. What Changes Did Illinois Make?

On November 6, 2001, Illinois submitted revised rules for emission reporting. These changes amend rules that USEPA approved on September 9, 1993, at 58 FR 47379. These rules include two types of revisions. The first type of revision is a restructuring and simplification of the requirements for annual emission reporting. The second type of revision affects ozone season emission reporting for sources subject to the Illinois trading program, most notably adding requirements for reporting emissions of hazardous air pollutants (HAPs).

The restructuring and simplification of the rule has a modest substantive effect on requirements for annual emission reporting. The first change affects the categories of emission reports, eliminating an intermediate reporting category and subjecting the small number of sources in this category to greater reporting requirements. Specifically, the previously approved rules had three categories of reporting, known as (1) the long report, (2) the medium report, and (3) the short report. These reports were to be submitted respectively by (1) sources permitted to emit a total emissions (summed across all regulated pollutants, such as particulate matter and nitrogen oxides) of at least 25 tons per year, (2) ozone nonattainment area sources not included in the first category that nevertheless had potential emissions of more than 25 tons per year of volatile organic compounds (VOC), nitrogen oxides (NOX), or both, and (3) smaller sources required to have a state operating permit. Under the revised rules, the first two of these categories must submit the long report. The long report requires reporting for all pollutants rather than just for VOC or NOX, so the rule revision requires slight additional reporting for a small number of sources of VOC and NOX.

Illinois also made several other less significant changes to annual emissions reporting requirements. The list of required information, previously specified in standard forms, is now specified in the rule. Illinois has exempted operations defined as insignificant activities from emission reporting requirements. Illinois has consolidated its definitions into one rule and deleted obsolete rules concerning initial reporting schedules.

The second major element of Illinois' revised emission reporting rule concerns reporting of ozone season emissions by sources subject to the Illinois trading program. “Ozone season” is defined here as May to September, which is the seasonal allotment period for the trading program. This portion of the emission reporting rule is very similar to the corresponding portion of Part 205 of Title 35 of the Illinois Administrative Code, which codifies what Illinois calls the Emissions Reduction Market System. Both rules set deadlines by which sources in that program must report VOC emissions during the ozone season as well as information on how emissions were determined. The emission reporting rule reiterates, sometimes with somewhat greater specificity, all of the emission reporting requirements given in the emission trading rules. These emission data satisfy a critical need of the trading program, allowing Illinois to assess whether each company has complied with the requirement to emit no more than the tonnage value of the allowances the company holds.

More significantly, the emission reporting rule establishes new requirements for sources in the Illinois trading program to report emissions of HAPs. This information is intended to address a public concern about the trading program, that the flexibility offered by the trading program may result in an inequitable geographic distribution of the reductions of VOC emissions and the hazardous components of these VOC emissions. This information is to allow Illinois to analyze any impacts of the trading program on HAP emissions.

The emission reporting rule requires sources subject to the trading program to report ozone season emissions of HAPs meeting any of three criteria: (1) HAPs that are regulated by a national emission standard (typically a maximum achievable control technology standard), (2) HAPs emitted in sufficient quantity to make the source a major source, and (3) HAPs reported to the federal Toxic Release Inventory. (Sources are exempt from reporting if they certify that information already reported to the Toxic Release Inventory suffices to indicate ozone season HAP emissions.) All sources subject to the trading program, including sources meeting none of the three criteria for HAP reporting, must answer questions that address whether the trading program might have affected HAPs emissions. Illinois is then authorized to request further information on HAP emissions when needed.

II. What Is EPA's View of These Changes?

Clean Air Act section 182(a)(3)(b) requires states with ozone nonattainment areas to require VOC and NOX sources in such areas to report emissions of these pollutants. In July 1992, EPA established guidance on this requirement.

Illinois submitted its previous version of annual emission reporting rules on October 12, 1992, and June 2, 1993. EPA approved those rules on September 9, 1993, at 58 FR 47379. The more recent rules make the state's requirements for annual emission reporting slightly more stringent by requiring a modest amount of additional information from a small number of sources. EPA concludes that Illinois continues to satisfy the requirements for emission reporting.

EPA's criteria for evaluating the rules on ozone season emission reporting are based on criteria for emission trading programs. In January 2001, EPA published an extensive guidance document on economic incentive programs such as trading programs. An important element of this guidance required states to address public concerns about the potential impacts of trading programs on the distribution and magnitude of HAP emissions. Illinois convened a workgroup of industry and environmental group representatives to seek consensus on the HAP emission reporting needed to evaluate whether the feared impacts in fact occur. The trading program and Illinois' efforts to address citizen concerns are described more extensively in EPA's rulemaking on the Illinois trading program, published on October 15, 2001, at 66 FR 52343. EPA concludes that Illinois' revised emission reporting rule provides an appropriate set of information on potential impacts of the trading program on HAPs emissions, allowing Illinois to provide analyses and public information to satisfy relevant portions of the criteria for emission trading programs.

III. EPA Action

EPA is approving the revisions to Illinois' rules for emissions reporting that Illinois submitted on November 6, 2001. These revisions repeal several previously approved rules, amend several other previously approved rules, add four new rules, and retain unchanged only one previously approved rule. EPA is publishing this action without prior proposal because EPA views these as noncontroversial revisions and anticipates no adverse comments. However, in a separate document in this Federal Register publication, the EPA is proposing the action taken in this final rule. This final rule will be effective on July 15, 2002, unless, by June 14, 2002, EPA receives adverse written comments.

If the EPA receives such comments, EPA will withdraw this final action before the effective date by publishing a subsequent notice in the Federal Register. All public comments received will be addressed in a subsequent final rule based on the associated proposed rule. The EPA does not intend to provide a second comment period on this action. Any parties interested in commenting on this action should do so at this time. If no such comments are received, the public is advised that this action will be effective on July 15, 2002.

IV. Administrative Requirements

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Public Law 104-4).

This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely approves a state rule implementing a Federal standard, and does not alter the relationship or the distribution of power and responsibilities established in the Clean Air Act. This rule also is not subject to Executive Order 13045 “Protection of Children from Environmental Health Risks and Safety Risks” (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This rule does not impose an information collection burden under the provisions of the Paperwork Reduction Act of 1995 (44 U.S.C. 3501 et seq.).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by July 15, 2002. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Incorporation by reference, Intergovernmental relations, Nitrogen oxides, Reporting and recordkeeping requirements, Volatile organic compounds.

Dated: March 19, 2002.
Gary Gulezian,
Acting Regional Administrator, Region 5.

For the reasons set out in the preamble, chapter I, title 40 of the Code of Federal Regulations is amended as follows:

PART 52—[AMENDED]

1. The authority citation for part 52 continues to read as follows:

Authority: 42 U.S.C. 7401 et seq.

Subpart O—Illinois

2. Section 52.720 is amended by adding paragraph (c)(166) to read as follows:

§ 52.720 Identification of plan.

* * * * *

(c) * * *

(166) On November 6, 2001, the State of Illinois submitted revisions to its emission reporting rules, restructuring these rules and adding hazardous air pollutant emission reporting for sources in Illinois' Emission Reduction Market System.

(i) Incorporation by reference.

(A) Revised rules of 35 Ill. Admin. Code Part 254, including new or amended sections 254.101, 254.102, 254.103, 254.120, 254.132, 254.134, 254.135, 254.136, 254.137, 254.138, 254.203, 254.204, 254.303, 254.306, and 254.501, effective July 17, 2001, retention of section 254.133, and the repeal of other previously approved sections of 35 Ill. Admin. Code 254. Amended or adopted at 25 Ill. Reg. 9856. Effective July 17, 2001.

[FR Doc. 02-12006 Filed 5-14-02; 8:45 am]

BILLING CODE 6560-50-P